NUCLEAR REGULATORY COMMISSION

[NRC-2009-0164]

Notice of Availability of Draft NUREG-1536, Revision 1A, “Standard Review Plan for Spent Fuel Dry Storage Systems at a General License Facility”, and Opportunity to Provide Comments

Correction

FR Notice Document E9-8602 was published on page 17696 in the issue of Thursday, April 16, 2009. This document was an inadvertent republication of FR Doc. E9-8599, which published on page 15746 in the issue of Wednesday, April 15, 2009. Therefore, FR Doc. E9-8602 is withdrawn.

[FR Doc. Z9-8599 Filed 4-21-08; 8:45 am]

BILLING CODE 1505-01-D